DEPARTMENT OF COMMERCE

International Trade Administration

Antidumping or Countervailing Duty Order, Finding, or Suspended Investigation; Opportunity To Request Administrative Review

AGENCY: Import Administration, International Trade Administration, Department of Commerce.

ACTION: Notice of Opportunity to Request Administrative Review of Antidumping or Countervailing Duty Order, Finding, or Suspended Investigation.

Background

Each year during the anniversary month of the publication of an antidumping or countervailing duty order, finding, or suspension of investigation, an interested party, as defined in section 771(9) of the Tariff Act of 1930, as amended (the Act), may request, in accordance with § 351.213 (1999) of the Department of Commerce (the Department) Regulations, that the Department conduct an administrative review of that antidumping or countervailing duty order, finding, or suspended investigation.

Opportunity To Request a Review

Not later than the last day of June 2000, interested parties may request administrative review of the following orders, findings, or suspended investigations, with anniversary dates in June for the following periods:

| Period
Antidumping Duty Proceedings
Belgium: Sugar A-423-077 | 6/1/99-5/31/00
Canada:
Oil Country Tubular Goods A-122-506 | 6/1/99-5/31/00
Red Raspberries* A-122-401 | 6/1/99-12/31/99
France:
Large Power Transformers* A-427-030 | 6/1/99-12/31/99
Sugar A-427-078 | 6/1/99-5/31/00
Germany:
Industrial Belts, Except Synchronous & V belts A-428-802 | 6/1/99-5/31/00
Precipitated Barium Carbonate* A-428-061 | 6/1/99-12/31/99
Sugar A-428-082 | 6/1/99-5/31/00
Hungary: Tapered Roller Bearings A-437-601 | 6/1/99-5/31/00
Italy:
Large Power Transformers* A-475-031 | 6/1/99-12/31/99
Synchronous and V-Belts A-475-802 | 6/1/99-5/31/00
Japan:
Certain Hot-Rolled Carbon Steel Flat Products A-588-846 | 2/19/99-5/31/00
Engineered Process Gas Turbo-Compressor Systems A-588-840 | 6/1/99-5/31/00
Fishnetting of Man-Made Fibers* A-588-029 | 6/1/99-12/31/99
Forklift Trucks A-588-703 | 6/1/99-5/31/00
Grain-Oriented Electrical Steel A-588-831 | 6/1/99-5/31/00
Industrial Belts A-588-807 | 6/1/99-5/31/00
Large Power Transformers* A-588-032 | 6/1/99-12/31/99
Nitrile Rubber* A-588-706 | 6/1/99-12/31/99
Republic of Korea: PET Film A-580-807 | 6/1/99-5/31/00
Romania: Tapered Roller Bearings A-485-602 | 6/1/99-5/31/00
Singapore: V-Belts A-559-803 | 6/1/99-5/31/00
Sweden: Stainless Steel Plate* A-401-040 | 6/1/99-12/31/99
Taiwan:
Carbon Steel Plate A-583-080 | 6/1/99-5/31/00
Oil Country Tubular Goods A-583-505 | 6/1/99-5/31/00
Stainless Steel Butt-Weld Pipe Fittings A-583-816 | 6/1/99-5/31/00
Certain Helical Spring Lock Washers A-583-820 | 6/1/99-5/31/00
The Netherlands: Aramid Fiber A-421-805 | 6/1/99-5/31/00
The People's Republic of China:
Furfuryl Alcohol** A-570-835 | 6/1/99-5/31/00
Silicon Metal A-570-806 | 6/1/99-5/31/00
Sparklers A-570-804 | 6/1/99-5/31/00
Tapered Roller Bearings A-570-601 | 6/1/99-5/31/00
Countervailing Duty Proceedings
Italy: Grain-Oriented Electrical Steel C-475-812 | 1/1/99-12/31/99
Suspension Agreements
None.
*-1AOrder revoked effective 01/01/2000 as a result of sunset review.
**-1AThis order is currently undergoing a “sunset” review pursuant to section 751(c) of the Act. If, subsequent to publication of this opportunity notice the order should be revoked pursuant to “sunset,” any review (if requested) or automatic liquidation instruction (if no review is requested) will only cover through the last day prior to the effective date of revocation.

In accordance with § 351.213(b) of the regulations, an interested party as defined by section 771(9) of the Act may request in writing that the Secretary conduct an administrative review. For both antidumping and countervailing duty reviews, the interested party must specify for which individual producers or exporters covered by an antidumping finding or an antidumping or countervailing duty order or suspension agreement it is requesting a review, and the requesting party must state why it desires the Secretary to review those particular producers or exporters. If the interested party intends for the Secretary to review sales of merchandise by an exporter (or a producer if that producer also exports merchandise from other suppliers) which were produced in more than one country of origin and each country of origin is subject to a separate order, then the interested party must state specifically, on an order-by-order basis, which exporter(s) the request is intended to cover.

Seven copies of the request should be submitted to the Assistant Secretary for Import Administration, International Trade Administration, Room 1870, U.S. Department of Commerce, 14th Street & Constitution Avenue, NW., Washington, DC 20230. The Department also asks parties to serve a copy of their requests to the Office of Antidumping/Countervailing Enforcement, Attention: Sheila Forbes, in room 3065 of the main Commerce Building. Further, in accordance with § 351.303(f)(l)(i) of the regulations, a copy of each request must be served on every party on the Department's service list.

The Department will publish in the Federal Register a notice of “Initiation of Administrative Review of Antidumping or Countervailing Duty Order, Finding, or Suspended Investigation” for requests received by the last day of June 2000. If the Department does not receive, by the last day of June 2000, a request for review of entries covered by an order, finding, or suspended investigation listed in this notice and for the period identified above, the Department will instruct the Customs Service to assess antidumping or countervailing duties on those entries at a rate equal to the cash deposit of (or bond for) estimated antidumping or countervailing duties required on those entries at the time of entry, or withdrawal from warehouse, for consumption and to continue to collect the cash deposit previously ordered.

This notice is not required by statute but is published as a service to the international trading community.

Dated: June 14, 2000.
Holly A. Kuga,
Acting Deputy Assistant Secretary, Group II, for Import Administration.

[FR Doc. 00-15523 Filed 6-19-00; 8:45 am]

BILLING CODE 3510-DS-P